CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed renewal of the Disaster Response Cooperative Agreement (DRCA) application. The DRCA enables CNCS supported national service organizations to engage members and participants in disaster response efforts to federally declared disasters and to be eligible to be reimbursed for expenses occurred while engaged in such efforts. This document describes eligibility criteria, the nature of disaster deployments, the Corporation's expectations for performance upon selection, and the application process. This agreement is the legal instrument by which organizations can be reimbursed by the Corporation for expenses incurred by the response, when it occurs under authority of a Mission Assignment from FEMA or another agency. Copies of the information collection request can be obtained by contacting the office listed in the addresses section of this notice.

DATES: Written comments must be submitted to the individual and office listed in the ADDRESSES section by December 19, 2011.

ADDRESSES: You may submit comments, identified by the title of the information collection activity, by any of the following methods:

(1) By mail sent to: Corporation for National and Community Service, Disaster Services, Attention Kelly DeGraff, Senior Advisor, Disaster Services, Room 960, 1201 New York Avenue, NW., Washington, DC 20525.

(2) By hand delivery or by courier to the Corporation's mailroom at Room 8100 at the mail address given in paragraph (1) above, between 9 a.m. and 4 p.m. Eastern Time, Monday through Friday, except Federal holidays.

(3) Electronically through http://www.regulations.gov. Individuals who use a telecommunications device for the deaf (TTY-TDD) may call 1-800-833-3722 between 8 a.m. and 8 p.m. Eastern Time, Monday through Friday.

FOR FURTHER INFORMATION CONTACT: Kelly DeGraff (202) 606-6817, or by e-mail at kdegraff@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The information collected will be used to help CNCS more effectively utilize its deployable resources to meet the needs of disaster affected communities. A better understanding of the participating programs will allow CNCS to match the capabilities of the programs to the needs of the communities and will allow better asset mapping and resource typing. Additionally, the information collected will allow CNCS to conduct better outreach to interested programs by providing them with more information about CNCS disaster procedures, reimbursement requirements, reimbursable expenses covered by the agreement, and support services offered.

Current Action

The Corporation seeks to renew and revise the current information collection. The revisions are intended to streamline the application process and ensure interested programs meet the appropriate programmatic and fiscal requirements to successfully execute mission-assigned activities. Additionally, the collected information will help CNCS best match the capabilities of the programs to the needs of the communities requesting assistance.

The information collection will otherwise be used in the same manner as the existing application. The Corporation also seeks to continue using the current application until the revised application is approved by OMB. The current application is due to expire on March 31, 2012.

Type of Review: Renewal.

Agency: Corporation for National and Community Service.

Title: Disaster Response Cooperative Agreements.

OMB Number: 3045-0133.

Agency Number: None.

Affected Public: Current grantees and Corporation-supported programs.

Total Respondents: 100.

Frequency: Frequency.

Average Time per Response: Averages two hours.

Estimated Total Burden Hours: 200.

Total Burden Cost (capital/startup): None.

Total Burden Cost (operating/maintenance): None.

Comments submitted in response to this notice will be summarized and/or included in the request for Office of Management and Budget approval of the information collection request; they will also become a matter of public record.

Dated: October 11, 2011.
Kelly DeGraff,
Senior Advisor, Disaster Services Unit.

[FR Doc. 2011-26828 Filed 10-17-11; 8:45 am]

BILLING CODE P